DEPARTMENT OF ENERGY

Federal Energy Regulatory Commission

[Docket No. CP15-511-000]

Transcontinental Gas Pipe Line Company, LLC; Notice of Request Under Blanket Authorization

Take notice that on June 4, 2015, Transcontinental Gas Pipe Line Company, LLC (Transco), pursuant to its blanket certificate authorization granted in Docket No. CP82-426-000,¹ filed an application in accordance to sections 157.205 and 157.216 of the Commission's Regulations under the Natural Gas Act (NGA) as amended, requesting authority to abandon certain pipeline facilities and removing related ancillary facilities, as necessary, located in Terrebonne Parish, Louisiana. The proposed abandonment are no longer required for gas service, all as more fully set forth in the application which is on file with the Commission and open to public inspection.

¹ 20 FERC ¶ 62,420 (1982).

Transco requests authorization to abandon an approximately 1.1-mile, 16-inch pipeline extending from Ship Shoal Block 28, Platform “C” to Ship Shoal Block 28, Platform “D1”; an approximately 10.5 mile, 16-inch pipeline extending from Ship Shoal Block 28, Platform “D1” to the Mosquito Bay Junction Platform “A”; and approximately 0.03-mile, 12-inch pipeline extending from Ship Shoal Block 28, Platform “D2” to a subsea tie-in with the 16-inch pipeline (Supply Laterals). The Supply Laterals will be abandoned in place. The tube turns and portions of the risers will be recovered and taken to shore. The Supply Laterals have not been used in the previous 12 months to provide service and are not expected to be used in the future. The proposed abandonment will have no impact on the daily design capacity and operating conditions of Transco's pipeline system. No customers have been served through the Supply Laterals during the previous 12 months.

Any questions concerning this application may be directed to Marg Camardello, P.O. Box 1396, Houston, Texas 77251, or by phone at (713) 215-3380.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages interveners to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: June 16, 2015.
Kimberly D. Bose,
Secretary.

[FR Doc. 2015-15232 Filed 6-19-15; 8:45 am]

BILLING CODE 6717-0-P